DEPARTMENT OF COMMERCE

National Institute of Standards and Technology

National Voluntary Laboratory Accreditation Program—Revisions to the Personal Body Armor Laboratory Accreditation Program

AGENCY: National Institute of Standards and Technology, Commerce.

ACTION: Notice.

SUMMARY: The National Voluntary Laboratory Accreditation Program (NVLAP) announces approval of revisions to its Personal Body Armor Laboratory Accreditation Program (LAP) for accreditation of laboratories performing tests on ballistic- and stab-resistant personal body armor. The program has been renamed as the Law Enforcement and Corrections Equipment LAP to better reflect the types of testing being performed within this accreditation program and to allow for future expansion of the program for testing of additional law enforcement and corrections equipment.

DATES: Handbook 150-24, 2021 edition, is applicable 30 days after publication on the NVLAP website, https://www.nist.gov/nvlap.

ADDRESSES: Laboratories may obtain a copy of NIST Handbook 150-24, NVLAP Law Enforcement and Corrections Equipment, by visiting the NVLAP website at https://www.nist.gov/ nvlap or by sending a request to NVLAP by mail at NIST/NVLAP, 100 Bureau Drive, Stop 2140, Gaithersburg, MD 20899-2140 or by email at nvlap@nist.gov.

FOR FURTHER INFORMATION CONTACT: Timothy Rasinski, Program Manager, NIST/NVLAP, 100 Bureau Drive, Stop 2140, Gaithersburg, MD 20899-2140, Phone: (301) 975-4016 or email: timothy.rasinski@nist.gov. Information regarding NVLAP and the accreditation process can be obtained from http://www.nist.gov/nvlap.

SUPPLEMENTARY INFORMATION: The National Institute of Standards and Technology (NIST) administers NVLAP under regulations found in 15 CFR part 285. NVLAP provides an unbiased third-party evaluation and recognition of laboratory performance, as well as expert technical assistance to upgrade that performance, by accrediting calibration and testing laboratories found competent to perform specific calibrations or tests. NVLAP is comprised of a set of LAPs which are established on the basis of requests and demonstrated need. Each LAP includes specific calibration and/or test standards and related methods and protocols assembled to satisfy the unique needs for accreditation in the field of calibration, field of testing, product or service.

The NVLAP Personal Body Armor LAP was established in 2006 at the request of the U.S. Department of Justice (DOJ) National Institute of Justice (NIJ) Office of Science and Technology. The LAP was developed to accredit laboratories for body armor testing in support of the NIJ Compliance Testing Program (CTP). The LAP currently encompasses accreditation for ballistic-resistant body armor testing, stab-resistant body armor testing, and autoloading pistol testing.

The Chief of NVLAP may approve modifications to a specific LAP when a request to modify the LAP is received. Modifications may include addition of tests, types of tests or standards that are directly relevant to the LAP. NVLAP received a request to revise the name of its Personal Body Armor LAP to the Law Enforcement and Corrections Equipment LAP in order to better encompass the scope of this program. NVLAP also received a request to expand the technology tested under this program to include rifle testing, helmet testing and shield testing. On March 19, 2021, NIST published a notice in the Federal Register (86 FR 14876) requesting public comments on the potential change of name and future expansion of the accreditation program to include rifle testing, helmet testing and shield testing.

A response to this notice was submitted from one entity, an accreditation organization. The comment submitted did not address the specific items of the proposal. The feedback from the organization related specifically to future consideration of the use of ISO/IEC 17065, Conformity assessment—Requirements for bodies certifying products, processes and services in the NIJ CTP.

The following is a summary and analysis of the comment received during the public comment period, and NIST's response to it:

Comment: One commenter responded that they encouraged the adoption of ISO/IEC 17065 for the certification of products in the NIJ CTP.

Response: The purpose of the NVLAP LAP is to determine competence of a laboratory performing the testing of the law enforcement and corrections equipment based on the requirements of ISO/IEC 17025, General requirements for the competence of testing and calibration laboratories. The comment encourages the further expansion of the NIJ program to include accreditation of certification bodies to ISO/IEC 17065. As the comment is specific to the NIJ CTP and its operation, this was deemed outside of the scope of the NVLAP LAP.

After considering the request, the Chief of NVLAP has determined that the revision of the LAP name to Law Enforcement and Corrections Equipment better reflects the types of testing that support the NIJ CTP and will allow for future expansion of the types of testing covered under this accreditation program. Therefore, the modification has been approved. Revised NIST Handbook 150-24 is available electronically from the NVLAP website at: https://nvlpubs.nist.gov/nistpubs/hb/2021/NIST.HB.150-24-2021.pdf.

Authority: 15 U.S.C. 272(b) & (c).

Alicia Chambers,
NIST Executive Secretariat.

[FR Doc. 2022-00035 Filed 1-5-22; 8:45 am]

BILLING CODE 3510-13-P